DEPARTMENT OF HOMELAND SECURITY

Coast Guard

33 CFR Part 117

[Docket No. USCG-2018-0167]

Drawbridge Operation Regulation; Grassy Sound Channel, Middle Township NJ and Townsend Inlet, Avalon, NJ

AGENCY: Coast Guard, DHS.

ACTION: Notice of deviation from drawbridge regulation.

SUMMARY: The Coast Guard has issued temporary deviations from the operating schedules that govern the Grassy Sound Channel (Ocean Drive) Bridge across Grassy Sound Channel, mile 1.0, in Middle Township, NJ and the Townsend Inlet Bridge across Townsend Inlet, mile 0.6, at Avalon, NJ. These deviations are necessary to accommodate the annual Ocean Drive Marathon event. These deviations allows these bridges to remain in the closed-to-navigation position.

DATES: These deviations is effective from 9:15 a.m. to 2:30 p.m. on April 22, 2018.

ADDRESSES: The docket for these deviations, [USCG-2018-0167], is available at http://www.regulations.gov. Type the docket number in the “SEARCH” box and click “SEARCH”. Click on Open Docket Folder on the line associated with this deviation.

FOR FURTHER INFORMATION CONTACT: If you have questions on these temporary deviations, call or email Ms. Kashanda Booker, Bridge Administration Branch Fifth District, Coast Guard; telephone (757) 398-6227, email Kashanda.l.booker@uscg.mil.

SUPPLEMENTARY INFORMATION: The Cape May County Department of Public Works, owner of these drawbridges, has requested temporary deviations from the current operating schedules to accommodate the Ocean Drive Marathon event. The Grassy Sound Channel (Ocean Drive) Bridge across Grassy Sound Channel, mile 1.0, in Middle Township, NJ, is a bascule drawbridge with a vertical clearance in the closed position of 15 feet above mean high water. The Townsend Inlet Bridge across Townsend Inlet, mile 0.6, in Avalon, NJ, is a bascule drawbridge with a vertical clearance in the closed position of 23 feet above mean high water.

The Grassy Sound Channel (Ocean Drive) Bridge operating regulations are set out in 33 CFR 117.721 and the Townsend Inlet Bridge operating regulations are set out in 33 CFR 117.757. Under these temporary deviations, these drawbridges will be allowed to remain in the closed-to-navigation position from 9:15 a.m. to 2:30 p.m. on Sunday, April 22, 2018, to accommodate the Ocean City Marathon event. Grassy Sound Channel and Townsend Inlet are used by a variety of vessels including recreational vessels, and small commercial vessels. The Coast Guard has carefully considered the nature and volume of vessel traffic on the waterway in publishing these temporary deviations.

Vessels able to pass through these bridges in the closed position may do so at any time. These bridges will be able to open for emergencies and there is no immediate alternate route for vessels unable to pass through these bridges in the closed position. The Coast Guard will also inform the users of the waterways through our Local and Broadcast Notice to Mariners of the change in operating schedule for these bridges so that vessels can arrange their transits to minimize any impacts caused by this temporary deviation.

In accordance with 33 CFR 117.35(e), these drawbridges must return to the regular operating schedules immediately at the end of the effective period of these temporary deviations. These deviations from the operating regulations are authorized under 33 CFR 117.35.

Dated: March 1, 2018.
Hal R. Pitts,
Bridge Program Manager, Fifth Coast Guard District.

[FR Doc. 2018-04642 Filed 3-7-18; 8:45 am]

BILLING CODE 9110-04-P